DEPARTMENT OF AGRICULTURE

Office of the Secretary

Solicitation of Input From Stakeholders on the Roadmap for Agricultural Research, Education, and Extension

AGENCY: Research, Education, and Economics Office, USDA.

ACTION: Notice of public comment period for written stakeholder input.

SUMMARY: The Research, Education, and Extension Office (REEO) of the Research, Education, and Economics (REE) Mission Area of the Department of Agriculture (USDA) is requesting written stakeholder input on the preparation of a roadmap for agricultural research, education, and extension at USDA. The preparation of the Roadmap is mandated by the Food, Conservation, and Energy Act (FCEA) of 2008. By this notice, the Under Secretary for Research, Education, and Economics has been designated to act on behalf of the Secretary of Agriculture (Secretary) in soliciting public comment from interested parties regarding the preparation of the Roadmap.

DATES: All written comments must be received by 5 p.m. EST, May 31, 2009, to be considered.

ADDRESSES: You may submit comments, identified by REE-2009-0001, by any of the following methods:

Federal eRulemaking Portal: http://www.regulations.gov. Follow the instructions for submitting comments.

E-mail: Roadmap@osec.usda.gov. Include REE-2009-0001 in the subject line of the message.

Fax: (202) 690-1677.

Mail: Paper, disk or CD-ROM submissions should be submitted to: Michele Simmons; Research, Education, and Extension Office (REEO); U.S. Department of Agriculture; Mail Stop 0114; 1400 Independence Avenue, SW.; Washington, DC 20250-0114.

Hand Delivery/Courier: Michele Simmons; Research, Education, and Extension Office (REEO); U.S. Department of Agriculture; Room 3858-S; 1400 Independence Avenue, SW.; Washington, DC 20250-0114.

Instructions: All submissions received must include the title “Roadmap” and REE-2009-0001. All comments received will be posted to http://www.regulations.gov, including any personal information provided.

FOR FURTHER INFORMATION CONTACT: Michele Simmons, (202) 720-1777 (phone), (202) 690-1677 (fax), or Roadmap@osec.usda.gov.

SUPPLEMENTARY INFORMATION:

Additional Comment Procedures

Information on the REEO and Roadmap is available for review at http://www.ree.usda.gov. Written comments must be received by 5 p.m. EST, May 31, 2009, to be considered. All comments, when they become available, may be reviewed on the REE Web page for six months.

Background and Purpose

The preparation of the roadmap for agricultural research, education, and extension is mandated in section 7504 of the Food, Conservation, and Energy Act (FCEA) of 2008, (Pub. L. 110-246, 7 U.S.C. 7614a. The Secretary, acting through the Under Secretary for Research, Education, and Education (Under Secretary), will prepare the Roadmap. The Secretary will implement and use the Roadmap to set the agricultural research, education, and extension agenda of the Department of Agriculture.

The Under Secretary is also the Chief Scientist for USDA, responsible for the coordination of the research, education, and extension activities of the Department. [7 U.S.C. 6971(c)]. The Research, Education, and Extension Office (REEO) recently organized within the Office of the Under Secretary is the office that provides such coordination, per 7 U.S.C. #6971(e)(1). Therefore the Office of the Chief Scientist and Under Secretary is inviting input on the Roadmap to be provided to the REEO by all interested parties from the Federal Government and nongovernmental entities.

The Roadmap will identify current trends and constraints and major opportunities and gaps that no single entity within the Department of Agriculture would be able to address individually. Stakeholder input is encouraged on any and all aspects of the development and implementation of the Roadmap, including responses to the following questions:

1. What types of current and future critical issues (including those affecting citizens, communities and natural resources) does agriculture face that no USDA entity could address individually?

2. What criteria should USDA use to prioritize agricultural science (i.e., research, education, and extension) investments to address these issues?

3. How might USDA better coordinate agricultural sciences among its various agencies and with its partners?

4. What are some examples where agricultural sciences are successfully coordinated for maximum benefit? Why are they successful?

5. What are some examples where agricultural sciences are not coordinated effectively? Why is coordination lacking? What are the barriers?

6. What else might USDA do to improve coordination of science; enhance USDA's ability to identify issues and prioritize investments; and elevate its role in science implementation and coordination?

Implementation Plans

The Under Secretary and the REEO plan to consider stakeholder input received from written comments in developing the Roadmap. The Secretary will make the Roadmap available to the public, with an expected publication date of not later than September 16, 2009.

Done at Washington, DC, this 4th day of March, 2009.
Katherine Smith,
Acting Deputy Under Secretary, Research, Education, and Economics.

[FR Doc. E9-7252 Filed 3-31-09; 8:45 am]

BILLING CODE